DEPARTMENT OF ENERGY

Federal Energy Regulatory Commission

[Docket Nos. RP97-288-025 and RP02-507-001]

Transwestern Pipeline Company; Notice of Compliance Filing

August 12, 2002.

Take notice that on August 6, 2002, Transwestern Pipeline Company (Transwestern) tendered for filing as part of its FERC Gas Tariff, Second Revised Volume No. 1, the following tariff sheets to become effective September 6, 2002:

1st Revised Nineteenth Revised Sheet No. 48

Fourth Revised Sheet No. 83

Second Revised Sheet No. 85-91A

1st Revised Eighth Revised Sheet No. 72

Fourth Revised Sheet No. 84

Transwestern states that on March 12, 1997, in Docket No. RP97-288-000, Transwestern filed tariff sheets to give it the ability to negotiate rates in accordance with the Commission's Policy Statement on Alternatives to Traditional Cost-of-Service Ratemaking for Natural Gas Pipelines. Transwestern also states that the Commission accepted the tariff sheets in an order issued April 11, 1997. On October 24, 2001, the Presiding Administrative Law Judge (ALJ) in Docket RP97-288-009, et.al., issued an initial decision is this proceeding. The initial decision found that Transwestern had complied with its current tariff in advertising and awarding of the capacity; however, the ALJ ordered Transwestern to “* * * modify its tariff so that all posting, bidding, and award procedures are set forth in a separate provision with an appropriate caption.” On July 17, 2002, the Commission issued an Order on Initial Decision and Compliance Filing which, Transwestern states, affirmed the ALJ's initial decision on modifying Transwestern's tariff, and in addition, required Transwestern to add language describing the availability and applicability of the recourse rate. Transwestern further states that the instant filing is made in compliance with the Commission's Order.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-20828 Filed 8-15-02; 8:45 am]

BILLING CODE 6717-01-P